GENERAL SERVICES ADMINISTRATION

Public Buildings Service; Availability of Final Environmental Impact Statement: United States Mission to the United Nations; Extension of Comment Period

Pursuant to section 102(2)(C) of the National Environmental Policy Act (NEPA) of 1969, as amended, as implemented by the Council on Environmental Quality (40 CFR parts 1500-1508), the General Services Administration (GSA) has filed with the U.S. Environmental Protection agency and made available to other government agencies and interested private parties, the Final Environmental Impact Statement (FEIS) for the demolition of the Federal building currently housing the United States Mission to the United Nations (USUN) and the subsequent construction of a new facility on the same site. A public hearing for the Draft Environmental Impact Statement was held on Wednesday, June 13th, 2001.

The FEIS is on file at GSA offices in Manhattan, Manhattan Community District #6 and the Mid-Manhattan Library. Copies of the FEIS Executive Summary or additional information may be obtained from: General Services Administration, Public Buildings Service—2PT, 26 Federal Plaza, Room 1609, New York, New York, 10278, Attn: Peter Sneed.

This notice was originally published on September 6, 2001 (66 FR 46639). The deadline for submitting written comments has been extended until Friday, December 14, 2001 and should be addressed to General Services Administration in care of the above noted individual.

Dated: November 14, 2001.
Edmond F. Schorno,
Regional Administrator.

[FR Doc. 01-29129 Filed 11-20-01; 8:45 am]

BILLING CODE 6820-23-M